DEPARTMENT OF COMMERCE

International Trade Administration

[A-570-835]

Furfuryl Alcohol From the People's Republic of China: Notice of Continuation of Antidumping Duty Order

AGENCY: Import Administration, International Trade Administration, Department of Commerce.

SUMMARY: As a result of the determination by the Department of Commerce (“the Department”) and the International Trade Commission (“ITC”) that revocation of the antidumping duty order on furfuryl alcohol from the People's Republic of China (“PRC”) would be likely to lead to continuation or recurrence of dumping and of material injury to an industry in the United States within a reasonably foreseeable time, the Department is publishing notice of the continuation of the antidumping duty order.

DATES: Effective Date: February 16, 2012.

FOR FURTHER INFORMATION CONTACT: Jennifer Moats, AD/CVD Operations, Import Administration, International Trade Administration, U.S. Department of Commerce, 14th Street and Constitution Avenue NW., Washington, DC 20230; telephone: (202) 482-5047.

SUPPLEMENTARY INFORMATION: On September 1, 2011, the Department initiated a sunset review of the antidumping duty order on furfuryl alcohol from the PRC pursuant to section 751(c) of the Tariff Act of 1930, as amended (“the Act”).¹

¹ See Initiation of Five-Year (“Sunset”) Review, 76 FR 54430 (September 1, 2011); see also Notice of Antidumping Duty Order: Furfuryl Alcohol From the People's Republic of China (PRC), 60 FR 32302 (June 21, 1995).

The Department conducted an expedited sunset review of this order. As a result of its review, the Department found that revocation of the antidumping duty order would be likely to lead to continuation or recurrence of dumping and notified the ITC of the magnitude of the margins likely to prevail were the order to be revoked.²

² See Furfuryl Alcohol From the People's Republic of China: Final Results of Expedited Third Sunset Review of the Antidumping Duty Order, 76 FR 78613 (December 19, 2011).

On February 6, 2012, the ITC published its determination pursuant to section 751(c) of the Act that revocation of the antidumping duty order on furfuryl alcohol from the PRC would be likely to lead to continuation or recurrence of material injury to an industry in the United States within a reasonably foreseeable time.³

³ See Furfuryl Alcohol From China, 77 FR 5844 (February 6, 2012).

Scope of the Order

The merchandise covered by the order is furfuryl alcohol (C4H3OCH2OH). Furfuryl alcohol is a primary alcohol, and is colorless or pale yellow in appearance. It is used in the manufacture of resins and as a wetting agent and solvent for coating resins, nitrocellulose, cellulose acetate, and other soluble dyes.

The product subject to the order is classifiable under subheading 2932.13.00 of the Harmonized Tariff Schedule of the United States (“HTSUS”). Although the HTSUS subheading is provided for convenience and customs purposes, our written description of the scope of this proceeding is dispositive.

Continuation of the Order

As a result of the determinations by the Department and the ITC that revocation of the antidumping duty order would be likely to lead to continuation or recurrence of dumping and material injury to an industry in the United States, pursuant to section 751(d)(2) of the Act, the Department hereby orders the continuation of the antidumping duty order on furfuryl alcohol from the PRC.

U.S. Customs and Border Protection will continue to collect antidumping duty cash deposits at the rates in effect at the time of entry for all imports of subject merchandise.

The effective date of continuation of this order will be the date of publication in the Federal Register of this Notice of Continuation. Pursuant to section 751(c)(2) of the Act, the Department intends to initiate the next five-year review of the order not later than February 2017.

This five-year (sunset) review and this notice are in accordance with sections 751(c) and 777(i)(1) of the Act and 19 CFR 351.218(f)(4).

Dated: February 7, 2012.
Paul Piquado,
Assistant Secretary for Import Administration.

[FR Doc. 2012-3715 Filed 2-15-12; 8:45 am]

BILLING CODE 3510-DS-P